DEPARTMENT OF AGRICULTURE

Agricultural Marketing Service

7 CFR Part 956

[Docket No. FV01-956-1]

Sweet Onions Grown in the Walla Walla Valley of Southeast Washington and Northeast Oregon; Continuance Referendum

AGENCY: Agricultural Marketing Service, USDA.

ACTION: Referendum order.

SUMMARY: This document directs that a referendum be conducted among eligible growers of sweet onions in the Walla Walla Valley of southeast Washington and northeast Oregon, to determine whether they favor continuance of the marketing order regulating the handling of sweet onions grown in the production area.

DATES: The referendum will be conducted from April 30, 2001 through May 19, 2001. To vote in this referendum, growers must have been producing Walla Walla sweet onions within the designated production area in Washington and Oregon, during the period June 1, 2000, through March 30, 2001.

ADDRESSES: Copies of the marketing order may be obtained from the office of the referendum agents at 1220 SW Third Avenue, suite 385, Portland, Oregon 97204, or the Office of the Docket Clerk, Marketing Order Administration Branch, Fruit and Vegetable Programs, AMS, USDA, P.O. Box 96456, room 2525-S, Washington, DC 20090-6456.

FOR FURTHER INFORMATION CONTACT: Dennis L. West, Northwest Marketing Field Office, Marketing Order Administration Branch, Fruit and Vegetable Programs, AMS, USDA, 1220 SW Third Avenue, suite 385; telephone (503) 326-2724; fax (503) 326-7440; or Melissa Schmaedick, Marketing Order Administration Branch, Fruit and Vegetable Programs, AMS, USDA, room 2522-S, P.O. Box 96456, Washington, DC 20090-6456; telephone (202) 720-2491; fax (202) 720-5698.

SUPPLEMENTARY INFORMATION: Pursuant to Marketing Agreement and Order No. 956 (7 CFR part 956), hereinafter referred to as the “order,” and the applicable provisions of the Agricultural Marketing Agreement Act of 1937, as amended (7 U.S.C. 601-674), hereinafter referred to as the “Act,” it is hereby directed that a referendum be conducted to ascertain whether continuance of the order is favored by the growers. The referendum shall be conducted from April 30, 2001, through May 19, 2001, among Walla Walla sweet onion growers in the production area. Only growers that were engaged in the production of Walla Walla sweet onions in Washington and Oregon, during the period of June 1, 2000, through March 30, 2001, may participate in the continuance referendum.

The Secretary of Agriculture has determined that continuance referenda are an effective means for determining whether growers favor continuation of marketing order programs. The Secretary would consider termination of the order if less than two-thirds of the growers voting in the referendum, and growers of less than two-thirds of the volume of Walla Walla sweet onions represented in the referendum favor continuance. In evaluating the merits of continuance versus termination, the Secretary will consider the results of the referendum and other relevant information regarding operation of the order. The Secretary will evaluate the order's relative benefits and disadvantages to growers, handlers, and consumers to determine whether continuing the order would tend to effectuate the declared policy of the Act.

In accordance with the Paperwork Reduction Act of 1995 (44 U.S.C. Chapter 35), the ballot materials to be used in the referendum herein ordered have been submitted to and approved by the Office of Management and Budget (OMB) and have been assigned OMB No. 0581-0089. It has been estimated that it will take an average of 20 minutes for each of the approximately 60 growers of Walla Walla sweet onions in Washington and Oregon to cast a ballot. Participation is voluntary. Ballots postmarked after May 19, 2001, will not be included in the vote tabulation.

Gary D. Olson and Dennis L. West of the Northwest Marketing Field Office, Fruit and Vegetable Programs, AMS, USDA, are hereby designated as the referendum agents of the Secretary of Agriculture to conduct such referendum. The procedure applicable to the referendum shall be the “Procedure for the Conduct of Referenda in Connection With Marketing Orders for Fruits, Vegetables, and Nuts Pursuant to the Agricultural Marketing Agreement Act of 1937, as Amended” (7 CFR Part 900.400 et. seq).

Ballots will be mailed to all growers of record and may also be obtained from the referendum agents, or from their appointees.

List of Subjects in 7 CFR Part 956

Marketing agreements, Onions, Reporting and recordkeeping requirements.

Authority: 7 U.S.C. 601-674.

Dated: April 24, 2001.
Kenneth C. Clayton,
Acting Administrator, Agricultural Marketing Service.

[FR Doc. 01-10596 Filed 4-25-01; 10:40 am]

BILLING CODE 3410-02-P